DEPARTMENT OF THE INTERIOR

National Park Service

National Register of Historic Places; Notification of Pending Nominations

Nominations for the following properties being considered for listing in the National Register were received by the National Park Service before May 1, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by May 27, 2004.

Carol D. Shull,
Keeper of the National Register of Historic Places.

KANSAS

Brown County

Delaware River Warren Truss Bridge, (Metal Truss Bridges in Kansas 1861—1939 MPS) Coyote Rd., 190th St., 4.1 mi. S, 0.5 mi. E of Fairview, Fairview, 04000580

Saline County

Lakewood Park Bridge, (Metal Truss Bridges in Kansas 1861—1939 MPS) One Lakewood Dr., 0.01 mi. N of jct. with Iron Ave., Salina, 04000579

MISSOURI

Benton County

Sander, Augustus, House, (Cole Camp, Missouri MPS) 408 W. Jefferson St., Cole Camp, 04000581

St. Francois County

Courthouse Square Historic District, Roughly bounded by W. Spring St., N. Washington St., W. Harrison St., and A St., Farmington, 04000582

NEW HAMPSHIRE

Coos County

Mountain View House, 120 Mountain View Rd., Whitefield, 04000588

Hillsborough County

Dunlap Building, 967 Elm St., Manchester, 04000587

NORTH CAROLINA

Buncombe County

Clingman Avenue Historic District, Roughly along Clingman Ave., from Hillard Ave. to Haywood Ave., Asheville, 04000583

Macon County

Bank of French Broad, 100 Main St., Marshall, 04000584

Rutherford County

Main Street Historic District (Boundary Expansion), 186 Mill St., Forest City, 04000585

Watauga County

Valle Crucis Historic District, Along NC 194 and NC 1112 (Broadstone Rd.), Valle Crucis, 04000586

SOUTH CAROLINA

Greenville County

Gilfillin and Houston Building, 217-219 E. Washington St., Greenville, 04000589

Greenwood County

Magnolia Cemetery, 416 Magnolia Ave., Greenwood, 04000590

TEXAS

Bexar County

Heidgen, Johann and Anna, House, 121 Starr St., San Antonio, 04000591

UTAH

Sanpete County

Nielson, John R., Cabin, Manti Canyon, Manti-La Sal National Forest, Manti, 04000592

A request for MOVE has been made for the following resource:

FLORIDA

Duval County

Brewster Hospital, 915 W. Monroe St., Jacksonville, 76000588.

[FR Doc. 04-10706 Filed 5-11-04; 8:45 am]

BILLING CODE 4312-51-P